ENVIRONMENTAL PROTECTION AGENCY

40 CFR Part 81

[WV057-6016b; FRL-6979-9]

Determination of Attainment of the NAAQS for PM-10 in the Weirton, WV Nonattainment Area

AGENCY: Environmental Protection Agency (EPA).

ACTION: Proposed rule.

SUMMARY: EPA proposes to determine that the Weirton, West Virginia PM-10 Moderate nonattainment area (comprised of the City of Weirton) attained the National Ambient Air Quality Standards (NAAQS) for Particulate Matter with an aerodynamic diameter less than or equal to a nominal 10 micrometers (PM-10) by its applicable December 31, 2000 attainment date. In the Final Rules section of this Federal Register, EPA is making this determination as a direct final rule without prior proposal because the Agency views this as a noncontroversial determination and anticipates no adverse comments. A more detailed description of EPA's evaluation is included in a Technical Support Document (TSD) prepared in support of this action. A copy of the TSD is available, upon request, from the EPA Regional Office listed in the ADDRESSES section of this document. If no adverse comments are received in response to this action, no further activity is contemplated. If EPA receives adverse comments, the direct final rule will be withdrawn and all public comments received will be addressed in a subsequent final notice based on this proposed rule. EPA will not institute a second comment period. Any parties interested in commenting on this action should do so at this time.

DATES: Comments must be received in writing by June 15, 2001.

ADDRESSES: Written comments should be addressed to David Arnold, Chief, Air Quality Planning and Information Services Branch Name, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103.

FOR FURTHER INFORMATION CONTACT: Ruth E. Knapp, (215) 814-2191, at the EPA Region III address above or by e-mail at knapp.ruth@epa.gov.

SUPPLEMENTARY INFORMATION: For further information on the determination that Weirton, West Virginia has attained the PM-10 NAAQS, please see the information provided in the direct final action, with the same title, that is located in the “Rules and Regulations” section of this Federal Register publication.

Dated: May 1, 2001.
William C. Early,
Acting Regional Administrator, Region III.

[FR Doc. 01-12350 Filed 5-15-01; 8:45 am]

BILLING CODE 6560-50-P